OFFICE OF THE UNITED STATES TRADE REPRESENTATIVE

Notice of Cancellation of Meeting of the Industry Sector Advisory Committee on Small and Minority Business (ISAC-14)

AGENCY: Office of the United States Trade Representative.

ACTION: Notice of meeting cancellation.

SUMMARY: A notice was published in the Federal Register dated September 7, 2001, Volume number 66, Notice 174, page 46860, announcing a meeting of the Industry Sector Advisory Committee on Small and Minority Business (ISAC-14), scheduled for September 24, 2001, from 9 a.m. to 4 p.m. The meeting was to be open to the public from 9 a.m. to 10 a.m. and again from 10:45 a.m. to 4 p.m. and closed to the public from 10 a.m. to 10:45 a.m. However, the meeting has been cancelled.

FOR FURTHER INFORMATION CONTACT: Millie Sjoberg or Pam Wilbur, of the Department of Commerce, (202) 482-4792.

Elizabeth A. Gianini,
Assistant U.S. Trade Representative for Intergovernmental Affairs and Public Liaison.

[FR Doc. 01-23615 Filed 9-20-01; 8:45 am]

BILLING CODE 3190-01-M